DEPARTMENT OF DEFENSE

Department of the Air Force

Air Force A-76 Initiatives Cost Comparisons and Direct Conversions (As of 30 June 2000)

The Air Force is in the process of conducting the following A-76 initiatives. Cost comparisons are public-private competitions. Direct conversions are functions that may result in a conversion to contract without public competition. These initiatives were announced and in-progress as of 30 June 2000, include the installation and state where the cost comparison or direct conversion is being performed, the total authorizations under study, public announcement date and actual or anticipated solicitation date. The following initiatives are in various stages of completion.

Cost Comparisons
Installation | State | Function(s) | Total authorizations | Public announcement date | Solicitation Issued or Scheduled Date
ANDREWS | MD | GROUNDS MAINTENANCE | 9 | 17-Dec-98 | 12-May-00
ANDREWS | MD | AIRCRAFT MAINTENANCE AND SUPPLY | 815 | 25-Jul-97 | 26-May-99
ANDREWS | MD | COMMUNICATION FUNCTIONS | 181 | 04-Oct-99 | 26-Sep-01
ANDREWS | MD | HEATING SYSTEMS | 22 | 17-Dec-98 | 18-Feb-00
AVON PARK | FL | RANGE OPERATIONS | 38 | 22-Dec-99 | 15-Oct-00
BARKSDALE | LA | PROTECTIVE COATING | 13 | 14-Dec-98 | 01-Jul-00
BEALE | CA | BASE OPERATING SUPPORT | 383 | 08-Sep-99 | 07-Mar-01
BOLLING | DC | SUPPLY AND TRANSPORTATION | 138 | 01-Dec-98 | 12-Sep-00
CARSWELL | TX | BASE OPERATING SUPPORT | 69 | 03-Feb-00 | 05-Jun-01
CHEYENNE MTN | CO | CIVIL ENGINEERING | 139 | 08-May-98 | 24-Sep-99
DAVIS MONTHAN | AZ | BASE SUPPLY | 35 | 04-Jan-00 | 30-Aug-00
EDWARDS | CA | TRANSIENT AIRCRAFT MAINTENANCE/AEROSPACE GROUND EQUIPMENT | 146 | 06-Nov-98 | 09-Jun-00
EDWARDS | CA | BASE OPERATING SUPPORT | 553 | 09-Dec-98 | 08-Nov-00
EGLIN | FL | ADMINISTRATIVE SUPPORT | 52 | 22-Sep-99 | 29-Sep-00
EGLIN | FL | CIVIL ENGINEERING | 200 | 03-Dec-96 | 21-Jul-98
EIELSON | AK | COMMUNICATIONS OPERATIONS AND MAINTENANCE | 63 | 29-Oct-99 | 05-Aug-00
ELMENDORF | AK | COMMUNICATIONS OPERATIONS AND MAINTENANCE | 81 | 05-Jan-00 | 03-Sep-00
ELMENDORF | AK | BASE SUPPLY | 208 | 26-Mar-99 | 21-Apr-00
FAIRCHILD | WA | HEATING SYSTEMS | 16 | 16-Mar-99 | 01-Mar-00
GREATER PITTSBURG | PA | BASE OPERATING SUPPORT | 77 | 13-Jun-96 | 10-Nov-99
GRISSOM | IN | BASE OPERATING SUPPORT | 133 | 13-Jun-96 | 01-Oct-99
HANSCOM AFB | MA | BASE SUPPLY | 70 | 10-Nov-98 | 01-May-00
HANSCOM AFB | MA | EDUCATION/TRAINING AND PERSONNEL | 17 | 25-Nov-98 | 20-Apr-00
HANSCOM AFB | MA | CIVIL ENGINEERING | 201 | 09-Dec-98 | 25-Feb-00
HILL AFB | UT | BASE OPERATING SUPPORT | 576 | 30-Sep-98 | 20-Sep-00
HOLLOMAN AFB | NM | TEST TRACK | 125 | 18-Nov-99 | 25-Aug-00
HOLLOMAN AFB | NM | MILITARY FAMILY HOUSING MAINTENANCE | 66 | 12-May-97 | 14-Jan-00
HURLBURT COM FL | FL | ADMINISTRATIVE SUPPORT | 33 | 28-Apr-99 | 09-Mar-01
HURLBURT COM FL | FL | COMMUNICATION FUNCTIONS | 50 | 31-Jul-98 | 19-Sep-00
HURLBURT COM FL | FL | BASE SUPPLY | 33 | 15-Jul-98 | 17-Feb-00
HURLBURT COM FL | FL | ENVIRONMENTAL | 7 | 22-Jun-00 | TBD
HURLBURT COM FL | FL | HOUSING MANAGEMENT | 12 | 08-Jun-00 | TBD
KEESLER | MS | MULTIPLE SUPPORT FUNCTIONS | 741 | 21-Sep-99 | 19-Dec-00
LACKLAND | TX | MULTIPLE SUPPORT FUNCTIONS | 1440 | 26-Jan-99 | 09-Aug-99
LANGLEY | VA | GENERAL LIBRARY | 11 | 22-Dec-98 | 07-Jun-00
MAXWELL | AL | MULTIPLE SUPPORT FUNCTIONS | 814 | 28-Apr-98 | 22-Mar-99
MCCHORD | WA | GROUNDS MAINTENANCE | 10 | 14-Jun-99 | 01-Jul-00
MULTIPLE INSTL |  | ADMINISTRATIVE SWITCHBOARD | 44 | 19-Jun-97 | 30-Sep-00
CROUGHTON | UK
FAIRFORD | UK
LAKENHEATH | UK
MILDENHALL | UK
MOLESWORTH | UK
MULTIPLE INSTLNS |  | PRECISION MEASUREMENT EQUIPMENT LABORATORY (PMEL) | 1516 | 24-Sep-98 | 29-Oct-99
MULTIPLE INSTLNS |  | COMMUNICATION FUNCTIONS | 208 | 03-Aug-99 | 01-Aug-00
LANGLEY | VA
HILL AFB | UT
MULTIPLE INSTLNS |  | EDUCATION SERVICES | 149 | 07-Jan-99 | 01-Feb-00
HOWARD | PANMA
MOODY | GA
MINOT | ND
MT HOME | ID
NELLIS | NV
SHAW | SC
WHITEMAN | MO
LAJES | AZORE
ELLSWORTH | SD
SEYMOUR JOHNSON | NC
HOLLOMAN | NM
DYESS | TX
DAVIS MONTHAN | AZ
CANNON | NM
BARKSDALE | LA
KEFLAVIK | ICELD
LANGLEY | VA
BEALE | CA
MULTIPLE INSTLNS |  | ADMINISTRATIVE SWITCHBOARD | 50 | 19-Jun-97 | 30-Sep-00
RAMSTEIN | GERMY
SEMBACH | GERMY
SPANGDAHLEM | GERMY
MULTIPLE INSTLNS |  | TRANSIENT AIRCRAFT MAINTENANCE | 15 | 07-Jul-99 | 29-May-00
LAKENHEATH | UK
MILDENHALL | UK
MULTIPLE INSTLNS |  | COMMUNICATION FUNCTIONS | 141 | 11-Mar-99 | 14-Apr-00
GENERAL MITCHELL | WI
WESTOVER | MA
MINN-ST PAUL | MN
YOUNGSTOWN | OH
WILLOW GROVE | PA
GRISSOM | IN
PITTSBURG | PA
MARCH | CA
HOMESTEAD | FL
CARSWELL | TX
NEW ORLEANS | LA
MULTIPLE INSTLNS |  | TRANSIENT AIRCRAFT MAINTENANCE | 24 | 07-Jul-99 | 31-Jul-00
RAMSTEIN | GERMY
SPANGDAHLEM | GERMY
MULTIPLE INSTLNS |  | MULTIPLE SUPPORT FUNCTIONS | 124 | 14-Jul-99 | 30-Dec-00
CROUGHTON | UK
FAIRFORD | UK
MOLESWORTH | UK
NEW BOSTON | NH | BASE OPERATING SUPPORT | 48 | 03-Dec-97 | 01-Aug-00
OFFUTT | NE | BASE OPERATING SUPPORT | 1608 | 30-Sep-98 | 15-Aug-00
PATRICK | FL | SUPPLY AND TRANSPORTATION | 43 | 14-May-98 | 01-Aug-00
PETERSON | CO | PERSONNEL SERVICES | 92 | 05-Jan-00 | 01-Dec-00
ROBINS | GA | ENVIRONMENTAL | 49 | 07-Jun-00 | 15-Feb-01
ROBINS | GA | ADMINISTRATIVE TELEPHONE SWITCHBOARD | 17 | 17-Mar-99 | 01-May-00
ROBINS | GA | BASE SUPPLY | 133 | 01-Apr-99 | 28-Jul-00
ROBINS | GA | EDUCATION SERVICES | 57 | 07-Jan-99 | 06-Jul-00
SCOTT | IL | COMMUNICATIONS OPERATIONS AND MAINTENANCE FUNCTIONS | 178 | 19-Mar-98 | 16-Aug-99
SCOTT | IL | PERSONNEL SERVICES | 236 | 25-Jun-99 | 19-Feb-01
SEMBACH | GERMY | COMMUNICATION FUNCTIONS | 48 | 18-Dec-98 | 31-Jul-00
SHEPPARD | TX | MULTIPLE SUPPORT FUNCTIONS | 493 | 21-Sep-99 | 31-Jul-00
TINKER | OK | BASE SUPPLY | 152 | 30-Nov-98 | 17-Nov-99
TINKER | OK | EDUCATION SERVICES | 65 | 16-Nov-98 | 17-Nov-99
TINKER | OK | ENVIRONMENTAL | 55 | 24-Nov-98 | 12-Nov-99
TRAVIS | CA | VEHICLE OPERATIONS AND MAINTENANCE | 131 | 15-Jul-98 | 10-Jul-00
USAF ACADEMY | CO | CIVIL ENGINEERING | 497 | 01-Dec-98 | 24-Mar-00
USAF ACADEMY | CO | COMMUNICATION FUNCTIONS | 114 | 20-May-99 | 31-Jul-00
USAF ACADEMY | CO | FOOD SERVICES | 297 | 08-May-98 | 21-Apr-99
USAF ACADEMY | CO | BASE OPERATING SUPPORT | 108 | 08-May-98 | 09-May-00
WHITEMAN | MO | UTILITIES PLANT | 11 | 18-Aug-99 | 01-Jun-00
WRIGHT PATTERSON | OH | LABORATORY SUPPORT SERVICES | 127 | 21-Aug-98 | 29-Oct-99
DIRECT CONVERSIONS
ANDERSEN | GUAM | AIR TRAFFIC CONTROL | 12 | 14-Sep-99 | 30-Jun-00
ASHEVILLE | NC | COMPUTER SYSTEMS MAINTENANCE | 10 | 17-Feb-99 | 14-Jun-00
BOLLING | DC | EDUCATION/TRAINING AND PERSONNEL | 12 | 01-May-00 | TBD
CANNON | NM | PROTECTIVE COATING | 2 | 07-Jan-99 | 15-Aug-00
CHEYENNE MTN | CO | COMMUNICATION FUNCTIONS | 385 | 08-May-98 | 01-Dec-99
COLUMBUS | MS | SURVIVAL EQUIPMENT | 29 | 18-Apr-00 | TBD
DAVIS MONTHAN | AZ | RAILROAD TRANSPORTATION SERVICES | 2 | 11-Aug-98 | 12-Jun-00
DYESS | TX | ENVIRONMENTAL | 5 | 05-Jun-00 | 15-Jul-00
EDWARDS | CA | LIBRARY | 7 | 09-Dec-98 | 28-Jul-00
EIELSON | AK | SUPPLY IEE | 8 | 17-May-00 | 01-Sep-00
ELLSWORTH | SD | ENVIRONMENTAL | 7 | 05-Nov-98 | 14-Apr-00
F E WARREN | WY | BASE COMMUNICATIONS | 105 | 30-Oct-97 | 10-Aug-00
GRAND FORKS | ND | MUNITIONS MAINTENANCE | 5 | 17-May-99 | 13-Oct-00
HICKAM | HI | AIR MOBILITY OPERATIONS CONTROL CENTER (AMOCC) | 53 | 29-Oct-99 | 01-Jul-00
HURLBURT COM FL | FL | SUPPLY RETAIL SALES SECTION | 10 | 15-Jul-98 | 17-Feb-00
KIRTLAND | NM | ENVIRONMENTAL | 32 | 24-Nov-98 | 17-Jul-00
KIRTLAND | NM | RECREATIONAL SUPPORT | 9 | 12-Jan-99 | 17-Jul-00
KIRTLAND | NM | EDUCATION SERVICES | 12 | 26-Oct-98 | 20-Mar-00
KIRTLAND | NM | FOOD SERVICES | 15 | 29-Oct-99 | 10-Jul-00
KIRTLAND | NM | GENERAL LIBRARY | 4 | 12-Jan-99 | 17-Jul-00
KIRTLAND | NM | CIVIL ENGINEERING | 360 | 09-Dec-98 | 16-Feb-00
LACKLAND | TX | FOOD SERVICES | 20 | 20-Dec-99 | 05-Jun-00
LACKLAND | TX | FACILITIES SERVICES MAINTENANCE | 63 | 07-Feb-00 | 14-May-00
LANGLEY | VA | COMMUNICATION FUNCTIONS | 8 | 23-Mar-99 | 01-Aug-00
LANGLEY | VA | DATA PROCESSING EQUIPMENT OPERATIONS | 15 | 04-Nov-99 | 15-Sep-00
LANGLEY | VA | AIRCRAFT FLEET SERVICES | 11 | 29-Jun-99 | 25-Jul-00
LANGLEY | VA | COMMUNICATIONS ADMINISTRATION AND INFORMATION FUNCTION | 13 | 31-Jan-00 | 01-Aug-00
MALMSTROM | MT | BASE COMMUNICATIONS | 85 | 06-Oct-97 | 15-Aug-00
MAXWELL | AL | EDUCATION SERVICES | 35 | 31-Jul-98 | 15-Jan-00
MCGUIRE | NJ | HEATING SYSTEMS | 6 | 04-May-99 | 31-Aug-00
MCGUIRE | NJ | FURNISHINGS MANAGEMENT | 2 | 14-May-99 | 01-Sep-00
MINOT | ND | GROUNDS MAINTENANCE | 9 | 18-May-99 | 23-Oct-00
MT HOME | ID | GROUNDS MAINTENANCE | 6 | 20-Jul-99 | 09-Jul-00
MULTIPLE INSTLNS |  | LINEN | 11 | 17-Jun-99 | 22-Jul-00
RAMSTEIN | GERMY
SPANGDAHLEM | GERMY
LAKENHEATH | UK
MILDENHALL | UK
NELLIS | NV | COMMUNICATION FUNCTIONS | 9 | 22-Dec-98 | 18-Nov-99
OFFUTT | NE | COMPUTER OPERATIONS | 76 | 17-Feb-99 | 15-Jul-00
RANDOLPH | TX | COURSEWARE DEVELOPMENT | 38 | 30-Sep-99 | 30-Jun-00
ROBINS | GA | AIRFIELD MANAGEMENT | 10 | 06-Jun-00 | 01-Dec-00
ROBINS | GA | GENERAL LIBRARY | 6 | 23-Nov-99 | 07-Aug-00
ROBINS | GA | PROTECTIVE COATING | 8 | 18-Jan-00 | 24-Sep-00
SCHRIEVER | CO | FOOD SERVICES | 18 | 02-Sep-99 | 01-Nov-00
SCOTT | IL | FURNISHINGS MANAGEMENT | 3 | 07-Aug-98 | 01-Jul-00
SCOTT | IL | MISCELANEOUS ACTIVITIES | 2 | 18-Mar-99 | 20-Mar-00
SCOTT | IL | ADMINISTRATIVE SWITCHBOARD | 86 | 05-Aug-99 | 27-Nov-00
SHAW | SC | COMMUNICATION FUNCTIONS | 3 | 18-May-99 | 04-Sep-00
SHAW | SC | ENVIRONMENTAL | 2 | 22-Mar-00 | 13-Jul-00
TINKER | OK | SOFTWARE PROGRAMMING | 67 | 08-May-00 | 01-Dec-00
VANCE | OK | SURVIVAL EQUIPMENT | 22 | 04-Feb-00 | 21-Oct-99
VANDENBERG AFB | CA | MISSILE STORAGE & MAINTENANCE | 66 | 14-Apr-99 | 18-Dec-99

Janet A. Long,
Air Force Federal Register Liaison Officer.

[FR Doc. 00-21062 Filed 8-17-00; 8:45 am]

BILLING CODE 5001-05-P